DEPARTMENT OF COMMERCE

National Oceanic and Atmospheric Administration

RIN 0648-XU71

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application for the Study Fleet Program contains all of the required information and warrants further consideration. Study Fleet projects are managed by the University of Massachusetts Dartmouth School of Marine Science and Technology (SMAST). The EFP would grant exemptions from minimum fish sizes, and possession and landing limits.

Regulations under the Magnuson-Stevens Fishery Conservation and Management Act require publication of this notification to provide interested parties the opportunity to comment on applications for proposed EFPs.

DATES: Comments must be received on or before April 14, 2010.

ADDRESSES: Comments on this notice may be submitted by e-mail. The mailbox address for providing e-mail comments is NERO.EFP@noaa.gov. Include in the subject line of the e-mail comment the following document identifier: “Comments on SMAST Study Fleet EFP.” Written comments should be sent to Patricia A. Kurkul, Regional Administrator, NMFS, Northeast Regional Office, 55 Great Republic Drive, Gloucester, MA 01930. Mark the outside of the envelope “Comments on SMAST Study Fleet EFP.” Comments may also be sent via facsimile (fax) to (978) 281-9135.

FOR FURTHER INFORMATION CONTACT: Jason Berthiaume, Fishery Management Specialist, (978) 281-9177.

SUPPLEMENTARY INFORMATION: A complete application for an EFP was submitted by SMAST on February 5, 2010. The EFP would exempt federally permitted commercial fishing vessels from the regulations detailed herein while participating in the following projects managed by SMAST:

(1) Georges Bank (GB) Multispecies Otter Trawl Net Study Fleet (seven vessels);

(2) Monkfish Age Validation Research (six vessels).

The primary goal of the GB Multispecies Otter Trawl Net Study Fleet project is to characterize catch on an effort level and collect size distributions of kept and discarded catch by: 1) Training fishermen to representatively sample their NE multispecies and monkfish catch, measuring 100 kept and 100 discarded fish for each statistical area fished per trip for each species that is assessed using an analytical stock assessment; 2) developing data protocols to integrate biological sampling into study fleet databases, including application of electronic measuring onboard; 3) measuring 100 kept and 100 discarded skates for each statistical area fished, per trip, for each species; and 4) measuring Atlantic wolffish when available.

The project is a continuation of research conducted since 2000 by SMAST, which is now in its third phase of incorporating electronic reporting for vessels collecting data. While fishing under Northeast (NE) multispecies days-at-sea (DAS), catch estimations would be derived by one of three methods: 1) Measuring actual weight using an electronic scale; 2) using basket weight, calculated by using a standard weight for a basket and counting the number of baskets filled; or 3) by using hail weight that is estimated by the crew. Length and weight measurements of 100 kept and 100 discarded fish, by statistical area, would be taken from a predetermined list of species (see Table 1). The landing of fish for sale at authorized dealers would be conducted according to each vessel's fishing permits and within current regulations. Temporary exemptions from proposed Amendment 16 to the NE Multispecies Fishery Management Plan (FMP) NE multispecies zero retention stocks at § 648.86(n) (74 FR 69454, December 31, 2009), and NE multispecies minimum fish sizes at § 648.83(a)(3) (74 FR 69454, December 31, 2009), would be necessary to obtain the proposed data from undersized individuals, prohibited species, and/or fish in excess of trip limits. Similarly, temporary exemptions from monkfish possession limits at § 648.94(a) and (b), and monkfish minimum fish sizes at § 648.93, would be necessary to obtain data from undersized individuals in excess of trip limits. Exemptions from skate possession restrictions at § 648.322(a)(1), and prohibitions on possession of skates at § 648.322(c)(1), would also be necessary, as these species may be encountered when catch estimation is being completed. With the exception of vessels conducting monkfish age validation research, as described in the following section, vessels would be prohibited from landing undersized fish or amounts of fish greater than the allowable landing limits.

The participating vessels would be required to comply with all other applicable requirements and restrictions specified at 50 CFR part 648, unless specifically exempted in this EFP. Pending implementation of approved measures in Amendment 16 to the multispecies FMP, all participating vessels would be required to comply with any other applicable requirements in regulations implementing the amendment. This includes the proposed regulation, at § 648.87(b)(1)(v) (74 FR 69454, December 31, 2009), that all catches of stocks allocated to Sectors by vessels on a Sector trip shall be deducted from the Sector's Annual Catch Entitlement (ACE) for each NE multispecies stock, regardless of what fishery the vessel was participating in when the fish was caught. Additionally, when Amendment 16 is implemented, this EFP may be revised to reflect any changes in regulatory citations and to address any exemptions that may no longer be necessary.

Table 1. List of Species for Biological Length Frequency Samples
Species | Maximum Sample Size Per Trip
Southern New England (SNE) Yellowtail Flounder | Up to 200 fish per statistical area
Georges Bank (GB) Yellowtail Flounder | Up to 200 fish per statistical area
Cape Cod/GOM Yellowtail Flounder | Up to 200 fish per statistical area
SNE Winter Flounder | Up to 200 fish per statistical area
GB Winter Flounder | Up to 200 fish per statistical area
GB Haddock | Up to 200 fish per statistical area
GB Atlantic Cod | Up to 200 fish per statistical area
GOM Atlantic Cod | Up to 200 fish per statistical area
Monkfish | Up to 200 fish per statistical area
American Plaice | Up to 200 fish per statistical area
Witch Flounder | Up to 200 fish per statistical area
Atlantic Wolffish | Up to 200 fish per statistical area
Northeast Skate Complex (each species) | Up to 200 fish per statistical area

Sampling would be conducted aboard seven fishing vessels that intend to fish in GB, SNE, and GOM throughout the 2010 NE multispecies fishing year beginning May 1, 2010, with a minimum of two trips per month and an average trip duration of 7 days. All vessels would utilize otter trawl gear, with gear configuration and mesh size dictated by current fishery regulations.

The primary goal of the monkfish age validation laboratory research is to maintain live specimens in a holding study to allow time for oxytetracycline to mark calcified structures for age-growth validation. Monkfish (see Table 2) would be collected by the study fleet fishing under a monkfish DAS, and transport techniques would be tested. A target of 10 fish per month from both the Northern and Southern monkfish stocks, totaling 20 fish per month, would be caught and maintained in the SMAST seawater laboratory, and given an injection of oxytetracycline. Monkfish would be marked with oxytetracycline, and most would be cultured for 1 year to allow for growth, with subsamples sacrificed quarterly to confirm that tetracycline marks were laid down.

Exemptions from monkfish possession limits at § 648.94(a) and (b), and monkfish minimum fish sizes at § 648.93, would be necessary to obtain specimens for laboratory research.

Table 2. List of Species for Biological Length Frequency Samples
Common Name/Stock | Proposed Sample Size
Northern Monkfish | 10 fish/month total
Southern Monkfish | 10 fish/month total

Sampling would be conducted aboard six fishing vessels that intend to fish in GB, Southern New England, and the Gulf of Maine throughout the 2010 NE multispecies fishing year beginning May 1, 2010, with a minimum of two trips per month and an average trip duration of 7 days. All vessels would utilize otter trawl gear, with gear configuration and mesh size dictated by current fishery regulations. Monkfish in excess of trip limits and undersized monkfish that are being landed would not be sold.

Based on preliminary review of this project, and in accordance with NOAA Administrative Order 216-6, a Categorical Exclusion from requirements to prepare either an Environmental Impact Statement or an Environmental Assessment under the National Environmental Policy Act appears to be justified. The applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: March 25, 2010.
James P. Burgess,
Acting Director, Office of Sustainable Fisheries, National Marine Fisheries Service.

[FR Doc. 2010-7066 Filed 3-29-10; 8:45 am]

BILLING CODE 3510-22-S